GENERAL SERVICES ADMINISTRATION

Performance Review Board; Membership; Senior Executive Service

AGENCY: General Services Administration.

ACTION: Notice.

SUMMARY: Notice is hereby given of the names of the members of the Performance Review Board.

FOR FURTHER INFORMATION CONTACT: Karla J. Hester, Chief of the Executive Resources Staff, Office of the Chief People Officer, General Services Administration, 1800 F Street, NW., Washington, DC 20405, (202) 501-1207.

SUPPLEMENTARY INFORMATION: Section 4313(c)(1) through (5) of title 5 U.S.C. requires each agency to establish in accordance with regulations prescribed by the Office of Personnel Management, one or more Performance Review Board(s). The Board(s) shall review the performance rating of each senior executive's performance by the supervisor, along with any recommendations to the appointing authority relative to the performance of the senior executive.

Members of the Performance Review Board are:

1. Thurman M. Davis, Sr., Deputy Administrator (Chairperson)

2. William B. Early, Jr., Chief Financial Officer

3. Sandra N. Bates, Commissioner, Federal Technology Service

4. Stephenie Foster, General Counsel

5. Martha N. Johnson, Chief of Staff

6. Gail T. Lovelace, Chief People Officer

7. Robert A. Peck, Commissioner, Public Buildings Service

8. William C. Piatt, Chief Information Officer

9. Donna D. Bennett, Commissioner, Federal Supply Service

10. G. Martin Wagner, Associate Administrator for Governmentwide Policy

Dated: October 4, 2000.
David J. Barram,
Administrator.

[FR Doc. 00-26189 Filed 10-11-00; 8:45 am]

BILLING CODE 6820-BR-M